DEPARTMENT OF HOMELAND SECURITY

Coast Guard

[USCG-2001-9046]

Final Report on Tank Level or Pressure Monitoring Devices

AGENCY: Coast Guard, DHS.

ACTION: Notice of availability.

SUMMARY: The Coast Guard announces the availability of the Final Report on Tank Level or Pressure Monitoring Devices. This report details the findings of the Coast Guard's study on costs and benefits of alternatives to tank level or pressure monitoring devices.

FOR FURTHER INFORMATION CONTACT: If you have questions on this notice, contact LCDR Roger K. Butturini, P.E., Regulatory Development Manager, Office of Standards Evaluation and Development (G-PSR-2), U.S. Coast Guard, telephone 202-372-1494 or e-mail Roger.K.Butturini@uscg.mil. If you have questions about the technical aspects of the report, contact Ms. Dolores Mercier, Technical Expert, Office of Design and Engineering Standards, U.S. Coast Guard, telephone 202-382-1381 or e-mail Dolores.Mercier@uscg.mil. If you have questions on viewing or submitting material to the docket, contact Ms. Renee V. Wright, Program Manager, Docket Operations, telephone 202-493-0402.

SUPPLEMENTARY INFORMATION: In section 702 of the Coast Guard and Marine Transportation Authorization Act of 2004 (Pub. L. 108-293,118 Stat 1028 (2004)), Congress directed the Coast Guard to analyze the costs and benefits of methods other than tank level or pressure monitoring (TLPM) devices for detecting loss of oil from cargo tanks into the water. The report was completed in March 2006 and we added a copy of this report into the docket for the original TLPM device rulemaking. You may electronically access the public docket for the original rulemaking by performing a “Simple Search” for docket number 9046 on the Internet at http://dms.dot.gov. The Final Report is number USCG-2001-9046-166.

Dated: November 3, 2006.
J.G. Lantz,
Director of National and International Standards Assistant Commandant for Prevention.

[FR Doc. E6-19459 Filed 11-16-06; 8:45 am]

BILLING CODE 4910-15-P